DEPARTMENT OF DEFENSE

Office of the Secretary

[Docket ID: DOD-2018-HA-0102]

Proposed Collection; Comment Request

AGENCY: Office of the Assistant Secretary of Defense for Health Affairs, DoD.

ACTION: Information collection notice.

SUMMARY: In compliance with the Paperwork Reduction Act of 1995, the Uniformed Services University of the Health Sciences announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 19, 2019.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24 Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Office of Regulatory Affairs and Research Compliance, Henry M. Jackson Foundation for the Advancement of Military Medicine (HJF), ATTN: Sandra Samayoa-Kozlowsky, Regulatory Affairs Assistant, 6720A Rockledge Drive, Suite 100, Bethesda, MD 20817 or call the HJF Office of Regulatory Affairs at (240) 694-2121.

SUPPLEMENTARY INFORMATION:

Title; Associated Form; and OMB Number: Comparing Hospital Hand Hygiene in Liberia: Soap, Alcohol, and Hypochlorite; OMB Control Number 0720-XXXX.

Needs and Uses: This information collection is necessary to conduct research as part of a U.S.-Liberia collaboration funded by the U.S. Department of Defense Center for Global Health Engagement. The study objectives are to determine the most appropriate cleansing material (soap, alcohol, or hypochlorite/chlorine solution) for routine hand hygiene in Liberian healthcare facilities and to determine how best to implement hand hygiene programs in these facilities. Results of this study may inform Liberian Government strategies to expand and implement best hospital hand hygiene intervention(s) across the nation, and also help shape hand hygiene program implementation in the U.S. DoD global humanitarian assistance, disaster relief, and health system strengthening.

Affected Public: Individuals or households.

Phase 1 Interview:

Annual Burden Hours: 84.

Number of Respondents: 84.

Responses per Respondent: 1.

Annual Responses: 84.

Average Burden per Response: 1 hour.

Frequency: As required.

Phase 2 Interview:

Annual Burden Hours: 90.

Number of Respondents: 36.

Responses per Respondent: 2.5 ¹

¹ Respondents may complete a follow up to their original response during Phase 2, via a focus group.

Annual Responses: 90.

Average Burden per Response: 1 hour.

Frequency: As required.

Phase 3 Interview:

Annual Burden Hours: 36.

Number of Respondents: 36.

Responses per Respondent: 1.

Annual Responses: 36.

Average Burden per Response: 1 hour.

Frequency: As required.

Phase 4 Interview:

Annual Burden Hours: 48.

Number of Respondents: 48.

Responses per Respondent: 1.

Annual Responses: 48.

Average Burden per Response: 1 hour.

Frequency: As required.

Total Annual Burden Hours: 258 ²

² Some respondents are the same throughout the collection's phases.

Total Number of Respondents: 84 total.

Total Average Burden per Response: 1 hour.

Total Annual Responses: 258.

During the 2014-2015 Ebola epidemic, dilute hypochlorite solutions were widely used for hand hygiene in hospitals, Ebola Treatment Units (ETUs), and community spaces throughout West Africa. The World Health Organization has recommended that health facilities use soap or alcohol instead of hypochlorite for hand hygiene. However, there are knowledge gaps about whether hypochlorite could be used for routine hand hygiene and about how best to implement hand hygiene changes in health facilities. Hypochlorite could be safe, effective, and easier to implement for routine hand hygiene, especially after the Ebola epidemic catalyzed institutional and individual behavior change. Respondents will include Liberian hospital administrators, healthcare workers, family caregivers, and patients in four study hospitals in Liberia. The research as planned cannot be completed without the survey data. The scientific merit and utility to DoD of this research were evaluated in a formal peer review process adjudicated in October 2016.

Dated: December 14, 2018.
Shelly E. Finke,
Alternate OSD Federal Register, Liaison Officer, Department of Defense.

[FR Doc. 2018-27523 Filed 12-19-18; 8:45 am]

BILLING CODE 5001-06-P